DEPARTMENT OF DEFENSE

Department of the Air Force

[Docket ID USAF-2008-0052]

Privacy Act of 1974; System of Records

AGENCY: Department of the Air Force, DoD.

ACTION: Notice to alter a System of Records.

SUMMARY: The Department of the Air Force is proposing to alter a system of records notice in its existing inventory of record systems subject to the Privacy Act of 1974, (5 U.S.C. 552a), as amended.

DATES: This proposed action will be effective without further notice on January 29, 2009 unless comments are received which result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on December 17, 2008 to the House Committee on Oversight and Government Reform, the Senate Committee on Homeland Security and Governmental Affairs, and the Office of Management and Budget (OMB) pursuant to paragraph 4c of Appendix I to OMB Circular No. A-130, “Federal Agency Responsibilities for Maintaining Records About Individuals,” dated February 8, 1996 (February 20, 1996, 61 FR 6427).

Dated: December 18, 2008.
Morgan E. Frazier,
Alternate OSD Federal Register Liaison Officer, Department of Defense.

F051 AFJA C

System name:

Judge Advocate Personnel Records (May 9, 2003, 68 FR 24949).

Changes:

* * * * *

System location:

Delete entry and replace with “The Judge Advocate General, Headquarters United States Air Force, 1420 Air Force Pentagon, Washington, DC 20330-1420.

At Headquarters of major command legal offices, subordinate legal offices, and field support centers. Official mailing addresses are published as an appendix to the Air Force's compilation of systems of records notices.”

Categories of individuals covered by the system:

Delete entry and replace with “All Air Force active duty and reserve/Guard Judge Advocates and paralegals; Air Force Judge Advocate General Corps civilian attorneys and other civilian personnel, including Air National Guard personnel; applicants to include the Funded Legal Education Program and Excess Leave Program.”

Categories of records in the system:

Delete entry and replace with “Individual's name, Social Security Number (SSN), date of birth, professional and personal information related to the employment of the categories of individuals covered by this system, including educational background information; certificates of admission to the bar; career objective statements; active duty and reassignment orders; correspondence relating to the individual; Air Force Personnel Center data; official and personal locator information; professional development information; education and training records; continuation pay records; award nomination packages; classification/on-the-job training actions; Headquarters USAF active duty and attachment orders; authorizations for inactive duty training; civilian personal qualifications statement; notification of personnel actions; statements of good standing before the bar; transcripts of law school records; statement of availability for Air Force civilian attorney vacancies; records from the Ad Hoc Selection Committee and the Air Force Civilian Attorney Qualifying Committee; Judge Advocate interview; letters of acceptance from law schools; application and agreement; Law School Data Assembly Service (LSDAS) report; transcripts of all undergraduate and graduate education, letters of recommendation, information related to attorney bar due reimbursement requests, and information for assignments, certifications, and any other personnel actions.”

Authority for maintenance of the system:

Delete entry and replace with “10 U.S.C. 8013, Secretary of the Air Force: Powers and duties; 10 U.S.C. 8037, Judge Advocate General, Deputy Judge Advocate General: Appointment and duties; Air Force Instruction 51-802; Air Force Instruction 36-2110, Assignments; and E.O. 9397 (SSN).”

Purpose(s):

Delete entry and replace with “Records are used by authorized personnel in the performance of their duties to determine accessions, assignments, attachments, deployments, education and training, continuation pay, awards, certifications, areas of legal practice specialties, attorney bar dues reimbursements, selection of civilian attorney and other civilian personnel positions, appointment to vacancies, promotions, evaluation, and performance issues and reports, and any other necessary personnel actions. Funded Legal Education and Excess Leave Program records are used by authorized personnel in the performance of their duties in monitoring, evaluating, and selecting the qualified applicants for these programs and other programs as necessary.”

* * * * *

Routine uses of records maintained in the system, including categories of users and the purposes of such uses:

Add to entry “To federal and state agencies or bar associations charged with licensing and authorizing attorneys to practice law, and to various courts authorizing attorneys to practice before said courts.

To government and private employers for authorized background checks.

The DoD ‘Blanket Routine Uses’ published at the beginning of the Air Force's compilation of systems of records notices apply to this system.”

Policies and practices for storing, retrieving, accessing, retaining, and disposing of records in the system:

Storage:

Delete entry and replace with “Paper records in file folders and on electronic storage media.”

Retrievability:

Delete entry and replace with “Individual's name or Social Security Number (SSN).”

Safeguards:

Delete entry and replace with “Records are accessed by person(s) responsible for servicing the record system in performance of their official duties and by authorized personnel who are properly screened and cleared for need-to-know. Records are stored in locked rooms and cabinets. Those in computer storage devices are protected by computer system software. Computers must be accessed with a password.”

* * * * *

System manager(s) and address:

Delete entry and replace with “Office of The Judge Advocate General, Headquarters United States Air Force, 1420 Air Force Pentagon, Washington, DC 20330-1420.”

* * * * *

F051 AFJA C

System name:

Judge Advocate Personnel Records.

System location:

The Judge Advocate General, Headquarters United States Air Force, 1420 Air Force Pentagon, Washington, DC 20330-1420.

At Headquarters of major command legal offices, subordinate legal offices, and field support centers. Official mailing addresses are published as an appendix to the Air Force's compilation of systems of records notices.

Categories of individuals covered by the system:

All Air Force active duty and reserve/Guard Judge Advocates and paralegals; Air Force Judge Advocate General Corps civilian attorneys and other civilian personnel, including Air National Guard personnel; applicants to include for the Funded Legal Education Program and Excess Leave Program.

Categories of records in the system:

Individual's name, Social Security Number (SSN), date of birth, professional and personal information related to the employment of the categories of individuals covered by this system, including educational background information; certificates of admission to the bar; career objective statements; active duty and reassignment orders; correspondence relating to the individual; Air Force Personnel Center data; official and personal locator information; professional development information; education and training records; continuation pay records; award nomination packages; classification/on-the-job training actions; Headquarters USAF active duty and attachment orders; authorizations for inactive duty training; civilian personal qualifications statement; notification of personnel actions; statements of good standing before the bar; transcripts of law school records; statement of availability for Air Force civilian attorney vacancies; records from the Ad Hoc Selection Committee and the Air Force Civilian Attorney Qualifying Committee; Judge Advocate interview; letters of acceptance from law schools; application and agreement; Law School Data Assembly Service (LSDAS) report; transcripts of all undergraduate and graduate education, letters of recommendation, information related to attorney bar due reimbursement requests, and information for assignments, certifications, and any other personnel actions.

Authority for maintenance of the system:

10 U.S.C. 8013, Secretary of the Air Force: Powers and duties; 10 U.S.C. 8037, Judge Advocate General, Deputy Judge Advocate General: Appointment and duties; Air Force Instruction 51-802; Air Force Instruction 36-2110, Assignments; and E.O. 9397 (SSN).

Purpose(s):

Records are used by authorized personnel in the performance of their duties to determine accessions, assignments, attachments, deployments, education and training, continuation pay, awards, certifications, areas of legal practice specialties, attorney bar dues reimbursements, selection of civilian attorney and other civilian personnel positions, appointment to vacancies, promotions, evaluation, and performance issues and reports, and any other necessary personnel actions. Funded Legal Education and Excess Leave Program records are used by authorized personnel in the performance of their duties in monitoring, evaluating, and selecting the qualified applicants for these programs and other programs as necessary.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To federal and state agencies or bar associations charged with licensing and authorizing attorneys to practice law and to various courts authorizing attorneys to practice before said courts.

To government and private employers for authorized background checks.

The DoD `Blanket Routine Uses' published at the beginning of the Air Force's compilation of systems of records notices apply to this system.

Policies and practices for storing, retrieving, accessing, retaining, and disposing of records in the system:

Storage:

Paper records in file folders and on electronic storage media.

Retrievability:

Individual's name or Social Security Number (SSN).

Safeguards:

Records are accessed by person(s) responsible for servicing the record system in performance of their official duties and by authorized personnel who are properly screened and cleared for need-to-know. Records are stored in locked rooms and cabinets. Those in computer storage devices are protected by computer system software. Records are accessed by person(s) responsible for servicing the record system in performance of their official duties and by authorized personnel who are properly screened and cleared for need-to-know. Records are stored in locked rooms and cabinets. Those in computer storage devices are protected by computer system software. Computers must be accessed with a Common Access Card (CAC) log-on/authentication and password.

Retention and disposal:

Records are retained in office files for one year after the individual terminates service, or until no longer needed for reference, then disposed of; or otherwise retained until no longer needed for reference. Paper records are disposed of by tearing into pieces, shredding, pulping, or burning. Computer records are destroyed by deleting, erasing, degaussing, or by overwriting.

System manager(s) and address:

Office of The Judge Advocate General, Headquarters United States Air Force, 1420 Air Force Pentagon, Washington, DC 20330-1420.

Notification procedure:

Individuals seeking to determine whether this system of records contains information on themselves should address written inquiries to The Judge Advocate General, Headquarters United States Air Force, 1420 Air Force Pentagon, Washington, DC 20330-1420.

Written requests should contain the individual's full name, date of birth, current address, and telephone number.

Record access procedures:

Individuals seeking access to records about themselves contained in this system should address written requests to The Judge Advocate General, Headquarters United States Air Force, 1420 Air Force Pentagon, Washington, DC 20330-1420.

Written requests should contain the individual's full name, date of birth, current address, and telephone number.

Contesting record procedures:

The Air Force rules for accessing records, and for contesting contents and appealing initial agency determinations are published in Air Force Instruction 33-332; 32 CFR part 806b; or may be obtained from the system manager.

Record source categories:

Information obtained directly from the individual or from previous employers, educational institutions, automated system interfaces, state and local governments, state bar associations, and from military personnel centers.

Exemptions claimed for the system:

None.

[FR Doc. E8-30865 Filed 12-29-08; 8:45 am]

BILLING CODE 5001-06-P